DEPARTMENT OF ENERGY

Study of Potential Sites for the Deployment of New Nuclear Power Plants in the United States

AGENCY: Idaho Operations Office, Department of Energy.

ACTION: Notice of availability of solicitation.

SUMMARY: The U.S. Department of Energy, Idaho Operations Office, is seeking applications from U.S. nuclear utilities/power generating companies to conduct an Early Site Permit scoping study of potential sites for the deployment of new nuclear power plants in the United States. The intention of this study is to determine the activities, schedule and resource requirements for demonstration of the Nuclear Regulatory Commission Early Site Permit Application licensing process at the preferred site.

DATES: The deadline for receipt of applications is 4:00 p.m. EST on October 15, 2001.

ADDRESSES: The formal solicitation document will be disseminated electronically as Solicitation Number DE-PS07-01ID14135, Study of Potential Sites for the Deployment of New Nuclear Power Plants in the United States, through the Industry Interactive Procurement System (IIPS) located at the following URL: http://e-center.doe.gov. IIPS provides the medium for disseminating solicitations, receiving financial assistance applications and evaluating the applications in a paperless environment. Completed applications are required to be submitted via IIPS. Individuals who have the authority to enter their company into a legally binding contract/agreement and intend to submit proposals/applications via the IIPS system must register and receive confirmation that they are registered prior to being able to submit an application on the IIPS system. An IIPS “User Guide for Contractors” can be obtained by going to the IIPS Homepage at the following URL: http://e-center.doe.gov and then clicking on the “Help” button. Questions regarding the operation of IIPS may be e-mailed to the IIPS Help Desk at IIPS_HelpDesk@e-center.doe.gov or call the help desk at (800) 683-0751.

FOR FURTHER INFORMATION CONTACT: Carol Van Lente, Contract Specialist, at vanlencl@id.doe.gov.

SUPPLEMENTARY INFORMATION: The authorizing statutes for this program are: Atomic Energy Act of 1954 (42 U.S.C. 2011 et seq.), as amended and Public Law 95-91, Department of Energy Organization Act of 1977. Approximately $700,000 in federal funds is expected to be available to conduct this scoping study. DOE anticipates making at least one or more cooperative agreement awards with a project performance period of approximately six months.

Issued in Idaho Falls on August 20, 2001.
R.J. Hoyles,
Director, Procurement Services Division.

[FR Doc. 01-21572 Filed 8-24-01; 8:45 am]

BILLING CODE 6450-01-P